DEPARTMENT OF THE INTERIOR

National Park Service

Environmental Statements; Availability: Biscayne National Park, Florida.

AGENCY: National Park Service, Interior.

ACTION: Notice of Availability of the Record of Decision for the Final General Management Plan Amendment/Environmental Impact Statement, Biscayne National Park, Miami, Florida.

SUMMARY: Pursuant to section 102 (2) (c) of the National Environmental Policy Act of 1969, the National Park Service (NPS) announces the availability of the Record of Decision for the Final General Management Plan Amendment/Environmental Impact Statement for Biscayne National Park. On June 11, 2003, the Director, Southeast Region, approved the Record of Decision for the Final General Management Plan Amendment and Environmental Impact Statement for Biscayne National Park. The purpose of the Record of Decision (ROD) is to document the NPS selection of the preferred alternative for the Final General Management Plan Amendment and Environmental Impact Statement. The plan is designed to create a strategy for preserving and managing the seven structures collectively known as “Stiltsville” that are built on pilings in the northern reaches of Biscayne Bay.

Under Alternative A, the selected alternative, a non-profit organization would be created along with an appropriate agreement with the NPS and other groups for the management and use of the Stiltsville structures. The Stiltsville organization would rehabilitate the buildings to support education and interpretation opportunities. Under this alternative, Stiltsville also may serve as a visitor and interpretive center, research facilities, an artist-in-residence dwelling, meeting space, and a satellite park office that will provide for NPS presence in the northern portion of the park.

The full ROD includes a statement of the decision made, synopses of other alternatives considered, the rationale for the decision, a description of the environmentally preferred alternative, a determination of non-impairment of park resources and values, a listing of measures to minimize environmental harm, an overview of public involvement in the decision-making process, and a statement regarding section 7 of the Endangered Species Act.

Basis for Decision

In reaching its decision to select the preferred alternative, the NPS considered the purposes for which Biscayne National Park was established, and other laws and policies that apply to lands and waters in the park, such as the NPS Organic Act, National Environmental Policy Act, and the NPS Management Policies. The NPS also carefully considered public comments received during the planning process.

To develop a preliminary preferred alternative, the NPS evaluated three action alternatives that were reviewed by the public as well as the required no-action alternative.

DATES: The Record of Decision for the Final General Management Plan Amendment and Environmental Impact Statement for Biscayne National Park was signed by the Director, Southeast Region for the NPS on June 11, 2003.

ADDRESSES: Copies of the Record of Decision are available from the Superintendent, Biscayne National Park, PO Box 1369, Homestead, Florida 33090-1369. Copies can also be obtained from: Division of Planning and Compliance, Southeast Regional Office, National Park Service, Attention: David Libman, 100 Alabama Street, 1924 Building, Atlanta, Georgia 30303, Telephone: 404-562-3124, ext. 685.

FOR FURTHER INFORMATION CONTACT: Superintendent, Biscayne National Park, 305-230-1144, ext. 3002.

SUPPLEMENTARY INFORMATION: A copy of the Record of Decision on the Final General Management Plan Amendment for Biscayne National Park can be obtained via the Internet by visiting the NPS Web site at http://www.planning.den.nps.gov/ or by calling 404-562-3124, ext. 685.

Dated: June 11, 2003.
William W. Schenk,
Regional Director, Southeast Region.

[FR Doc. 03-18205 Filed 7-17-03; 8:45 am]

BILLING CODE 4310-LG-P